DEPARTMENT OF COMMERCE

International Trade Administration

[A-533-502]

Welded Carbon Steel Pipes and Tubes from India

AGENCY: Import Administration, International Trade Administration, Department of Commerce.

ACTION: Notice of Rescission of Antidumping Duty New Shipper Review: Welded Carbon Steel Pipes and Tubes from India.

EFFECTIVE DATE: September 9, 2003.

SUMMARY: On July 3, 2003, the Department of Commerce published in the Federal Register a notice announcing the initiation of a new shipper review of the antidumping duty order on welded carbon steel pipes and tubes from India, covering the period May 1, 2002, through April 30, 2003. The review covered Surya Roshni, Ltd. On August 25, 2003, the request was withdrawn subsequent to the initiation of the new shipper review and, therefore, we are rescinding this review.

FOR FURTHER INFORMATION CONTACT: Minoo Hatten or Mark Ross at (202) 482-1690 and (202) 482-4794, respectively, AD/CVD Enforcement III, Import Administration, International Trade Administration, U.S. Department of Commerce, 14th Street and Constitution Avenue, N.W., Washington, DC 20230.

SUPPLEMENTARY INFORMATION:

Background

The notice announcing the antidumping duty order on welded carbon steel pipes and tubes from India was published on May 12, 1986 (51 FR 17384). On May 30, 2003, we received a request for a new shipper review of the antidumping duty order on welded carbon steel pipes and tubes from India from Surya Roshni Ltd. (Surya). Pursuant to section 751(a)(2)(B) of the Tariff Act of 1930, as amended (the Act), and 19 CFR 351.214(d)(1), we initiated a new shipper review on July 3, 2003, for shipments of welded carbon steel pipes and tubes from India produced and exported by Surya (68 FR 39897). Surya withdrew its request for a new shipper review on August 25, 2003.

Rescission of New Shipper Review

Section 19 CFR 351.214(f)(1) provides that the Department of Commerce may rescind a new shipper review if the party that requested the review withdraws its request for review within sixty days of the date of publication of the notice of initiation of the requested review. Surya withdrew its request within the 60-day period. Accordingly, we are rescinding this new shipper review.

Notification

Bonding is no longer permitted to fulfill security requirements for shipments of welded carbon steel pipes and tubes from India produced and exported by Surya, entered, or withdrawn from warehouse, for consumption in the United States on or after the publication of this rescission notice in the Federal Register.

This notice also serves as the only reminder to parties subject to administrative protective order (APO) of their responsibility concerning the disposition of proprietary information disclosed under APO in accordance with 19 CFR 351.305(a)(3). Timely written notification of the return/destruction of APO material or conversion to judicial protective order is hereby requested. Failure to comply with the regulations and terms of an APO is a violation which is subject to sanctions.

This notice is published in accordance with section 751(a) of the Act and 19 CFR 351.214(f)(3).

September 3, 2003.
Louis Apple,
Acting Deputy Assistant Secretary for Import Administration.

[FR Doc. 03-22944 Filed 9-8-03; 8:45 am]

BILLING CODE 3510-DS-S